DEPARTMENT OF THE INTERIOR

Geological Survey

[GX14BA02EEW0200; OMB Control Number 1028-0103]

Agency Information Collection Activities; USA National Phenology Network—The Nature's Notebook Plant and Animal Observing Program

AGENCY: U.S. Geological Survey, Interior.

ACTION: Notice of information collection; request for comment.

SUMMARY: In accordance with the Paperwork Reduction Act of 1995, the U.S. Geological Survey (USGS) is proposing to renew an information collection (IC).

DATES: Interested persons are invited to submit comments on or before December 31, 2018.

ADDRESSES: Send your comments on the information collection request (ICR) by mail to the U.S. Geological Survey, Information Collections Clearance Officer, 12201 Sunrise Valley Drive, MS 159, Reston, VA 20192; or by email to gs-info_collections@usgs.gov. Please reference OMB Control Number 1028-0103 in the subject line of your comments.

FOR FURTHER INFORMATION CONTACT: To request additional information about this ICR, contact Jake F. Weltzin by email at jweltzin@usgs.gov, or by telephone at 520-626-3821.

SUPPLEMENTARY INFORMATION: We, the U.S. Geological Survey, in accordance with the Paperwork Reduction Act of 1995, provide the general public and other Federal agencies with an opportunity to comment on proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the USGS; (2) will this information be processed and used in a timely manner; (3) is the estimate of burden accurate; (4) how might the USGS enhance the quality, utility, and clarity of the information to be collected; and (5) how might the USGS minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Abstract: The USA-NPN is a program sponsored by the USGS that uses standardized forms for tracking plant and animal activity as part of a project called Nature's Notebook. The Nature's Notebook forms are used to record phenology (e.g., timing of leafing or flowering of plants and reproduction or migration of animals) as part of a nationwide effort to understand and predict how plants and animals respond to environmental variation and changes in weather and climate. Contemporary data collected through Nature's Notebook are quality-checked, described and made publicly available; data are used to inform decision-making in a variety of contexts, including agriculture, drought monitoring, and wildfire risk assessment. Phenological information is also critical for the management of wildlife, invasive species, and agricultural pests, and for understanding and managing risks to human health and welfare, including allergies, asthma, and vector-borne diseases. Participants may contribute phenology information to Nature's Notebook through a browser-based web application or via mobile applications for iPhone and Android operating systems, meeting GPEA and Privacy Act requirements. The web application interface consists several components: User registration, a searchable list of 1,260 plant and animal species which can be observed; a “profile” for each species that contains information about the species including its description and the appropriate monitoring protocols; a series of interfaces for registering as an observer, registering a site, registering plants and animals at a site, generating datasheets to take to the field, and a data entry page that mimics the datasheets.

Title of Collection: USA NATIONAL PHENOLOGY NETWORK—THE NATURE'S NOTEBOOK PLANT AND ANIMAL OBSERVING PROGRAM

OMB Control Number: 1028-0103.

Form Number: None.

Type of Review: Extension of a currently approved collection.

Respondents/Affected Public: Members of the public, registered with Nature's Notebook, state Cooperative Extension employees and tribal members.

Total Estimated Number of Annual Respondents: 7,581.

Total Estimated Number of Annual Responses: 4,093,314.

Estimated Completion Time per Response: When joining the program, responders spend 13 minutes each to register and read guidelines and 83 minutes to watch all training videos. After that responders may spend about 2 minutes per record to observe and submit phenophase status record.

Total Estimated Number of Annual Burden Hours: 138,857.

Respondent's Obligation: Voluntary.

Frequency of Collection: On occasion; depends on the seasonal activity of plants and animals.

Total Estimated Annual Non-hour Burden Cost: $11,484.

Table—Annual Responses and Burden Hours
Response type | Annual responses (projected) | Completion time per response (minutes) | Annual burden (hours)
Registrations | 7,581 | 13 minutes (3 minutes to register + 10 minutes to read guidelines) | 1,643
Training videos | 758 | 83 minutes (to watch entire set of videos) | 1,049
Observation records | 4,084,975 | 2 minutes (includes observation and reporting time) | 136,166
Total | 4,093,314 |  | 138,857

Table—Annual Non-Hour Burden Costs
| Cost per unit | Number of respondents expected to use | Non-hour burden cost
Clipboard | $2.23 | 4,245 | $9,467
Pencils | 0.10 | 4,245 | 425
Flags | 0.05 | 1,516 | 76
Markers | 0.10 | 1,516 | 152
Stakes | 0.30 | 1,516 | 455
Tags | 0.30 | 1,516 | 455
Popsicle Sticks | 0.30 | 1,516 | 455
Average Marking Material Cost | 0.19 |  |
Cost per Response | 2.52 |  |
Total Non-Hour Burden Cost |  |  | 11,484

An agency may not conduct or sponsor and a person is not required to respond to a collection of information unless it displays a currently valid OMB control number.

The authorities for this action are the Paperwork Reduction Act of 1995 (44 U.S.C. 3501, et seq.).

Jake Weltzin,
Program Manager, Status & Trends Program.

[FR Doc. 2018-23824 Filed 10-30-18; 8:45 am]

BILLING CODE 4338-11-P